DEPARTMENT OF AGRICULTURE

Forest Service

Southwestern Region, Arizona, New Mexico, West Texas, and West Oklahoma Amendment of Land and Resource Management Plans in the Southwestern Region

AGENCY: Forest Service, USDA.

ACTION: Notice of intent to prepare an environmental impact statement.

SUMMARY: The Southwestern Region of the Forest Service is planning to prepare an environmental impact statement on a proposal to amend National Forest land and resource management plans to modify standards and guidelines for Mexican spotted owl and northern goshawk within wildland-urban interface areas and to emphasize the management of wildland-urban interface areas throughout the southwest. The amendment would modify applicable standards and guidelines to place emphasis on, and describe direction for the management of wildland-urban areas in the southwestern region. The amendment would apply to all subsequent project-level resource management decisions that will involve site-specific environmental analysis and appropriate public involvement.

DATES: Comments in response to this Notice of Intent concerning the scope of the analysis should be received in writing to the address listed below.

ADDRESSES: Send written comments to USDA Forest Service, 333 Broadway SE, Albuquerque, New Mexico 87102-3498, ATTN: Director Ecosystem Analysis and Planning.

Responsible Official: The Regional Forester, Southwestern Region, will be the responsible official and will decide on amendments to land and resource management plans to incorporate standards and guidelines as described above.

FOR FURTHER INFORMATION CONTACT: Director of Ecosystem Analysis and Planning, 333 Broadway SE, Albuquerque, New Mexico 87102-3498, (505) 842-3210.

SUPPLEMENTARY INFORMATION: The following describes the proposed amendment for the land and resource management plans to reflect management emphasis in wildland-urban interface areas and to modify certain standards and guidelines to complement that management emphasis. The current land and resource management plans in the Southwestern Region contain no specific description or management direction for wildland-urban interface areas. Current standards and guidelines for Mexican spotted owl and northern goshawk habitat management may conflict with wildland-urban interface management. The language for the proposed amendment to modify forest-wide standards and guidelines follows. The proposed text will read:

Wildland-Urban Interface

All Forests

Wildland-urban interface includes those areas of resident populations at imminent risk from wildfire, and human developments having special significance. These areas encompass not only the sites themselves, but also the continuous slopes and fuels that lead directly to the sites, regardless of the distance involved. Reference Forest Service Manual 5140, R-3 Supplement for a complete definition of wildland-urban interface. Management activities in wildland-urban interface should be designed to keep fire on the ground, or in a worst-case scenario, transform a running crown fire back to a ground fire, so that suppression efforts can be more effective. The objective of fuels management in areas of wildland-urban interface is to reduce potential wildland fire intensity to a level where fire suppression forces can safely remain on site during a wildland fire. This includes fires originating on other ownerships that may encroach upon national forest lands, or wildland fires originating on national forest lands that may encroach on other ownerships.

Mexican Spotted Owl

Applicability

The Mexican spotted owl standards and guidelines apply to forest and woodland communities, with the exception of wildland-urban interface areas within ½ mile of the forest boundary. Within this ½-mile area, wildland-urban interface fuel management objectives take precedence over Mexican spotted owl standards and guidelines. Wildland-urban interface areas beyond the ½-mile limit are subject to Mexican spotted owl standards and guidelines if they are within forest and woodland communities. Mexican spotted owl standards and standards and guidelines should be followed with ½ mile of a wildland-urban interface boundary to the extent they can be implemented and still achieve wildland-urban interface fuel management objectives.

Ecosystem Management in Northern Goshawk Habitats

Applicability

The northern goshawk standards and guidelines apply to forest and woodland communities that are outside of the Mexican spotted owl protected and restricted areas, with the exception of areas within ½ mile of wildland-urban interface.

Wildland-urban interface borders those areas of human populations at imminent risk from wildfire, and human developments having special significance. See Forest Service Manual 5140, R-3 Supplement, for a complete definition of wildland-urban interface.

Within this ½-mile area, wildland-urban interface fuel management objectives take precedence over northern goshawk standards and guidelines if they are within forest and woodland communities. Northern goshawk standards and guidelines should be followed within ½ mile of a wildland-urban interface boundary to the extent they can be implemented and still achieve wildland-urban interface objectives.

Within Mexican spotted owl protected and restricted areas outside of the ½-mile zone described above, the Mexican spotted owl standards and guidelines take precedence over the northern goshawk standards and guidelines. Outside of the ½-mile zone, one or the other (owl or goshawk) set of standards and guidelines applies to forest and woodland communities, but the Mexican spotted owl standards and guidelines always take precedence in areas of overlap.

Comments concerning the proposed action were solicited from over 900 potentially affected and interested people, agencies, and organizations in June and July 2001. These comments will assist us in preparing a draft environmental impact statement.

A draft environmental impact statement is expected to be available for public review and comment by October 2001, and a final environmental impact statement by March 2002.

The comment period on the draft environmental impact statement will run for 45 days following the date the Environmental Protection Agency publishes the notice of availability in the Federal Register.

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the environmental impact statement.

To assist the Forest Service in identifying and considering issues, and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this solicitation, including names and addresses of those who comment, will be considered part of the public record on this proposed action and will be available for public inspection. Comments submitted anonymously will be accepted and considered. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets.

The Forest Service will inform the requester of the agency's decision regarding the request for confidentiality, and where the request is denied, the agency will return the submission and notify the requester that the comments may be resubmitted with or without name and address.

Dated: July 31, 2001.
Eleanor S. Towns,
Regional Forester.

[FR Doc. 01-19688 Filed 8-6-01; 8:45 am]

BILLING CODE 3410-11-P